FEDERAL EMERGENCY MANAGEMENT AGENCY

Proposed Policy Guidance for Maximizing the Quality, Objectivity, Utility, and Integrity of Public Information Disseminated or Used by the Federal Emergency Management Agency

AGENCY: Federal Emergency Management Agency.

ACTION: Notice of availability of final policy guidelines.

SUMMARY: Section 515 of the Treasury and General Government Appropriations Act for Fiscal Year 2001, Pub. L. 106-544 (“Section 515”) requires all agencies to issue guidelines ensuring and maximizing the quality, objectivity, utility, and integrity of the information that they disseminate or use to promulgate regulations, standards, or program requirements. The Office of Management and Budget (OMB) requires agencies to post their final guidelines on their web sites by October 1, 2002. Agencies are also required to publish notices of the availability of their final guidelines in the Federal Register. Accordingly, the Federal Emergency Management Agency (FEMA) is publishing notice of the availability of the final policy guidelines for Section 515 on the FEMA web site: http://www.FEMA.gov/library/.

DATES: This notice is effective October 1, 2002.

ADDRESSES: Please send written comments to the Rules Docket Clerk, Office of General Counsel, Federal Emergency Management Agency, 500 C Street, SW., Room 840, Washington, DC 20472, (facsimile) 202-646-4536, or (e-mail) rules@fema.gov.

FOR FURTHER INFORMATION CONTACT: Brenda Erickson, Federal Emergency Management Agency, Information Technology Services Directorate, 500 C Street SW., Washington, DC 20472, 202-646-2842 or e-mail Brenda.Erickson@fema.gov.

Dated: October 15, 2002.
Rose Parkes,
Chief Information Officer.

[FR Doc. 02-26798 Filed 10-21-02; 8:45 am]

BILLING CODE 6718-01-P